DEPARTMENT OF THE INTERIOR

Bureau of Ocean Energy Management

[Docket No.: BOEM-2021-0029]

Notice of Intent To Prepare an Environmental Impact Statement for Revolution Wind LLC's Proposed Wind Energy Facility Offshore Rhode Island; Reopening of Comment Period and Corrections

AGENCY: Bureau of Ocean Energy Management, Interior.

ACTION: Notice; reopening of comment period and corrections.

SUMMARY: On April 30, 2021, the Bureau of Ocean Energy Management (BOEM) published the “Notice of Intent to Prepare an [EIS] for Revolution Wind LLC's Proposed Wind Energy Facility Offshore Rhode Island” in the Federal Register. The NOI announced that BOEM will prepare an EIS as part of its review of a construction and operations plan submitted by Revolution Wind LLC and provided project information. The notice stated that comments received by June 1, 2021, will be considered. This notice corrects two statements in the NOI regarding the energy capacity of the proposed wind facility and its distance from shore. In addition, it reopens the comment period.

DATES: Comments received by June 11, 2021 will be considered.

ADDRESSES: Written comments can be submitted in any of the following ways:

• Delivered by mail or delivery service, enclosed in an envelope labeled “Revolution Wind COP EIS,” and addressed to Program Manager, Office of Renewable Energy, Bureau of Ocean Energy Management, 45600 Woodland Road, Sterling, Virginia 20166; or

• Through the regulations.gov web portal: Navigate to http://www.regulations.gov and search for Docket No. BOEM-2021-0029. Click on the “Comment Now!” button to the right of the document link. Enter your information and comment, then click “Submit.”

FOR FURTHER INFORMATION CONTACT: Michelle Morin, BOEM Office of Renewable Energy Programs, 45600 Woodland Road, Sterling, Virginia 20166, (703) 787-1722 or michelle.morin@boem.gov.

SUPPLEMENTARY INFORMATION:

Technical Corrections

In the Federal Register of April 30, 2021, on page 22973 in the first column, line 48, under the heading “Purpose and Need for the Proposed Action”, replace the sentence: “The project will deliver 704 MW of power to the New England energy grid.”

The corrected sentence reads: “The project would have the capacity to deliver up to 880 MW of power to the New England energy grid, satisfying the current PPA total of 704 MW.”

In the same edition of the Federal Register, on page 22973, in the second column, line 20 under the heading “Preliminary Proposed Action and Alternatives,” replace the sentence: “The wind turbine generators, offshore substations, array cables, and substation interconnector cables would be located on the [Outer Continental Shelf] approximately 17.4 nautical miles (20 statute miles) south of the coast of Rhode Island.”

The corrected sentence reads: “The wind turbine generators, offshore substations, array cables, and substation interconnector cables would be located on the Outer Continental Shelf (OCS) approximately 15 nautical miles (18 statute miles) southeast of Point Judith, Rhode Island, approximately 13 nautical miles (15 statute miles) east of Block Island, Rhode Island, approximately 7.5 nautical miles (8.5 statute miles) south of Nomans Land Island National Wildlife Refuge (uninhabited island), and between approximately 10 to 12.5 nautical miles (12 to 14 statute miles) south/southwest of varying points of the Rhode Island and Massachusetts coastlines.”

William Y. Brown,
Chief Environmental Officer, Bureau of Ocean Energy Management.

[FR Doc. 2021-11727 Filed 6-3-21; 8:45 am]

BILLING CODE 4310-MR-P